DEPARTMENT OF THE TREASURY

Alcohol and Tobacco Tax and Trade Bureau

27 CFR Parts 4, 5, and 7

[Notice No. 57; Re: Notice No. 53]

RIN 1513-AB16

Use of the Word “Pure” or Its Variants on Labels or in Advertisements of Alcohol Beverage Products; Reopening of Comment Period

AGENCY: Alcohol and Tobacco Tax and Trade Bureau, Treasury.

ACTION: Advance notice of proposed rulemaking; reopening of comment period.

SUMMARY: In response to a request from an alcohol industry trade association, the Alcohol and Tobacco Tax and Trade Bureau reopens the comment period for Notice No. 53, Use of the Word “Pure” or Its Variants on Labels or in Advertisements of Alcohol Beverage Products, an advance notice of proposed rulemaking published in the Federal Register on December 7, 2005. The comment period is reopened for an additional 30 days.

DATES: Comments on Notice No. 53 must now be received on or before March 20, 2006.

ADDRESSES: You may send comments to any of the following addresses:

• Director, Regulations and Rulings Division, Alcohol and Tobacco Tax and Trade Bureau, Attn: Notice No. 53, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, Notice No. 53, and any comments we receive by appointment at the TTB Information Resource Center, 1310 G Street, NW., Washington, DC 20220. To make an appointment, call 202-927-2400. You may also access copies of this notice, Notice No. 53, and the related comments online at http://www.ttb.gov/alcohol/rules/index.htm.

FOR FURTHER INFORMATION CONTACT: Lisa M. Gesser, Regulations and Rulings Division, Alcohol and Tobacco Tax and Trade Bureau, P.O. Box 128, Morganza, MD 20660; (301) 290-1460.

SUPPLEMENTARY INFORMATION: On December 7, 2005, the Alcohol and Tobacco Tax and Trade Bureau (TTB) published Notice No. 53, Use of the Word “Pure” or Its Variants on Labels or in Advertisements of Alcohol Beverage Products; Request for Public Comment, in the Federal Register (70 FR 72731). In that advance notice of proposed rulemaking, TTB requested public comment on possible changes to the regulations concerning the use of the word “pure” and its variants in the labeling and advertising of alcohol beverage products regulated by TTB. As originally published, the comment period for Notice No. 53 closed on February 6, 2006.

On February 3, 2006, TTB received a written request from the Beer Institute, a major alcohol beverage industry trade association, to extend the comment period for Notice No. 53 for an additional 30 days beyond its closing date. Citing its staff's recent busy schedule, the Beer Institute requested the additional time to “more thoroughly respond” to TTB's request for comments on the issues raised in Notice No. 53.

In response to this request, TTB reopens the comment period for Notice No. 53 for an additional 30 days. Therefore, comments on Notice No. 53 are now due on or before March 20, 2006.

Drafting Information

Michael D. Hoover of the Regulations and Rulings Division drafted this notice.

Signed: February 9, 2006.
John J. Manfreda,
Administrator.

[FR Doc. 06-1487 Filed 2-15-06; 8:45 am]

BILLING CODE 4810-31-P